DEPARTMENT OF ENERGY

Federal Energy Regulatory Commission

[Project No. 11910-002 Oregon]

Applegate Dam; Notice of Availability of Environmental Assessment

June 15, 2007.

In accordance with the National Environmental Policy Act of 1969 and Federal Energy Regulatory Commission (Commission) regulations, 18 CFR Part 380 (Order No. 486, 52 FR 47897), Office of Energy Projects staff have reviewed Symbiotics, LLC's application for the proposed Applegate Dam Project and prepared this environmental assessment (EA). The proposed project would be located at the existing U.S. Army Corps of Engineers' (Corps) Applegate dam located at river mile 45.7 on the Applegate River, near the town of Medford, in Jackson County, Oregon. The proposed project facilities would occupy 7.1 acres of federal land administered by the Corps below and adjacent to the dam. In addition, the project boundary would include 2.32 acres of National Forest System land and 0.66 acre of U.S. Bureau of Land Management land.

This EA contains the Commission staff's analysis of the potential future environmental effects of the project. Staff has concluded that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via e-mail of new filings and issuances related to this or other pending projects. For assistance, contact FERC Online Support.

Any comments should be filed within 30 days from the date of this notice and should be addressed to Kimberly D. Bose, Secretary, Federal Energy Regulatory Commission, 888 First Street, NE., Washington, DC 20426. Please affix “Applegate Dam Project No. 11910-002” to all comments. Comments may be filed electronically via the Internet in lieu of paper. The Commission strongly encourages electronic filings. See 18 CFR 385.2001(a)(1)(iii) and the instructions on the Commission's Web site (http://www.ferc.gov) under the “e-filing” link.

Please contact Tim Looney by telephone at (202) 502-6096 or by e-mail at Timothy.Looney@ferc.gov if you have any questions.

Kimberly D. Bose,
Secretary.

[FR Doc. E7-12191 Filed 6-22-07; 8:45 am]

BILLING CODE 6717-01-P